DEPARTMENT OF COMMERCE

National Oceanic and Atmospheric Administration

[RTID 0648-XA095]

New England Fishery Management Council; Public Meeting

AGENCY: National Marine Fisheries Service (NMFS), National Oceanic and Atmospheric Administration (NOAA), Commerce.

ACTION: Notice of revision of a public meeting.

SUMMARY: The New England Fishery Management Council (Council, NEFMC) will hold a two-day webinar meeting to consider actions affecting New England fisheries in the exclusive economic zone (EEZ). Due to federal and state travel restrictions and updated guidance from the Centers for Disease Control and Prevention regarding the new coronavirus, COVID-19, this meeting will be conducted entirely by webinar. The notice for this meeting was published on March 26, 2020 and is available at https://www.federalregister.gov/documents/2020/03/26/2020-06263/new-england-fishery-management-council-public-meeting?utm_campaign=subscription+mailing+list&utm_source=federalregister.gov&utm_medium=email. Since that time, the Council has added one important overarching agenda item and expanded the scope of two others. This notice alerts the public of the revised agenda.

DATES: The webinar meeting will be held on Tuesday and Wednesday, April 14 and 15, 2020, beginning at 9 a.m. on April 14 and 8:30 a.m. on April 15.

ADDRESSES: All meeting participants and interested parties can register to join the webinar at https://register.gotowebinar.com/register/8766043774885604099.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, April 14, 2020

All items previously listed on Tuesday's agenda will proceed on schedule and can be viewed on the Council's website at https://www.nefmc.org/calendar/april-2020-council-meeting. However, in light of the unforeseen COVID-19 pandemic and the economic, social, and public health consequences that are rapidly unfolding, the Council also may discuss requests for emergency action that come up during the meeting. Section 305(c) of the Magnuson-Stevens Fishery Conservation and Management Act (MSA) authorizes the Secretary of Commerce to implement emergency regulations to address fishery emergencies.

Wednesday, April 15, 2020

All items previously listed on Wednesday's agenda will proceed on schedule, although the scope of two items has been expanded. First, under the Scallop Committee Report, the Council will discuss several different requests for emergency action that involve potential carryover of certain fishing year 2019 allocations into fishing year 2020. The Council still intends to approve the range of alternatives for Amendment 21 to the Atlantic Sea Scallop Fishery Management Plan. Secondly, the scope of the Council's discussion on recreational party/charter eVTRs has been expanded. Under this item, the Council will discuss and determine the appropriate mechanism to require recreational party/charter vessels to submit vessel trip reports (VTRs) electronically as eVTRs for all fisheries managed by the New England Fishery Management Council. Potential options now include initiating an omnibus framework adjustment or requesting that NMFS use its authority under Section 305(b) of the MSA to extend the recently implemented commercial eVTR requirement to cover New England party/charter vessels. Finally, as indicated above under Tuesday's agenda, the Council may discuss other requests for emergency action that come up during the meeting in light of the unforeseen COVID-19 pandemic as allowed under Section 305(c) of the Magnuson-Stevens Fishery Conservation and Management Act (MSA).

Although non-emergency issues not contained on this agenda may come before the Council for discussion, those issues may not be the subject of formal action during this meeting. The public should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: March 27, 2020.
Tracey L. Thompson,
Acting Deputy Director, Office of Sustainable Fisheries, National Marine Fisheries Service.

[FR Doc. 2020-06815 Filed 4-1-20; 8:45 am]

BILLING CODE 3510-22-P